COMMISSION ON CIVIL RIGHTS

Sunshine Act Notice

AGENCY: United States Commission on Civil Rights.

ACTION: Notice of meeting.

Date and Time: Friday, July 31, 2009; 1:30 p.m. EDT.

Place: Via Teleconference, Public Dial In—1-800-597-7623, Conference ID # 21390687.

Meeting Agenda

This meeting is open to the public.

I. Approval of Agenda

II. State Advisory Committee Issues

• Arizona SAC

• Hawaii SAC

• Michigan SAC

• Utah SAC

III. Program Planning

• Update on National Civil Rights Conference

IV. Adjourn

Contact Person for Further Information: Lenore Ostrowsky, Acting Chief, Public Affairs Unit, (202) 376-8591. TDD: (202) 376-8116.

Persons with a disability requiring special services, such as an interpreter for the hearing impaired, should contact Pamela Dunston at least seven days prior to the meeting at 202-376-8105. TDD: (202) 376-8116.

Dated: July 21, 2009.
David Blackwood,
General Counsel.

[FR Doc. E9-17726 Filed 7-21-09; 4:15 pm]

BILLING CODE 6335-01-P